INTERNATIONAL TRADE COMMISSION

[Investigation Nos. 701-TA-694 and 731-TA-1641-1642 (Final)]

Aluminum Lithographic Printing Plates From China and Japan: Determinations

On the basis of the record ¹ developed in the subject investigations, the United States International Trade Commission (“Commission”) determines, pursuant to the Tariff Act of 1930 (“the Act”), that an industry in the United States is materially injured by reason of imports of aluminum lithographic printing plates (“ALPs”) from China and Japan, provided for in subheading 3701.30.00 of the Harmonized Tariff Schedule of the United States, that have been found by the U.S. Department of Commerce (“Commerce”) to be sold in the United States at less than fair value (“LTFV”), and subsidized by the government of China.2 3 4

¹ The record is defined in § 207.2(f) of the Commission's Rules of Practice and Procedure (19 CFR 207.2(f)).

² 89 FR 79256, 89 FR 79250, and 89 FR 79248 (September 27, 2024).

³ Commissioner David S. Johanson dissenting.

⁴ The Commission also finds that imports subject to Commerce's affirmative critical circumstances determinations are not likely to undermine seriously the remedial effect of the antidumping and countervailing duty orders on ALPs from China.

Background

The Commission instituted these investigations effective September 28, 2023, following receipt of petitions filed with the Commission and Commerce by Eastman Kodak Company, Rochester, New York. The final phase of the investigations was scheduled by the Commission following notification of preliminary determinations by Commerce that imports of ALPs from China were subsidized within the meaning of section 703(b) of the Act (19 U.S.C. 1671b(b)) and imports of ALPs from China and Japan were sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 14, 2024 (89 FR 41993).⁵ The Commission conducted its hearing on September 17, 2024. All persons who requested the opportunity were permitted to participate.

⁵ A revision to the final phase schedule was published in the Federal Register on August 13, 2024 (89 FR 65933).

The Commission made these determinations pursuant to sections 705(b) and 735(b) of the Act (19 U.S.C. 1671d(b) and 19 U.S.C. 1673d(b)). It completed and filed its determinations in these investigations on November 12, 2024. The views of the Commission are contained in USITC Publication 5559 (November 2024), entitled Aluminum Lithographic Printing Plates from China and Japan: Investigation Nos. 701-TA-694 and 731-TA-1641-1642 (Final).

By order of the Commission.
Issued: November 12, 2024.
Lisa Barton,
Secretary to the Commission.

[FR Doc. 2024-26740 Filed 11-15-24; 8:45 am]

BILLING CODE 7020-02-P